DEPARTMENT OF STATE

[Public Notice 7905]

Notice of Meeting of Advisory Committee on International Law

A meeting of the Advisory Committee on International Law will take place on Wednesday, June 13, 2012, from 9:30 a.m. to approximately 5:30 p.m., at the George Washington University Law School (Michael K. Young Faculty Conference Center, 5th Floor), 2000 H St. NW., Washington, DC. The meeting will be chaired by the Legal Adviser of the Department of State, Harold Hongju Koh, and will be open to the public up to the capacity of the meeting room. It is anticipated that the agenda of the meeting will cover a range of current international legal topics, including the law of immunity, international criminal law, transnational disincentive mechanisms, and future international law priorities for the Office of the Legal Adviser.

Members of the public who wish to attend the session should, by Wednesday, June 5, 2012, notify the Office of the Legal Adviser (telephone: (202) 776-8344, email: KillTP@state.gov) of their name, professional affiliation, address, and telephone number. A valid photo ID is required for admittance. A member of the public who needs reasonable accommodation should make his or her request by June 5, 2012. Requests made after that time will be considered but might not be possible to accommodate.

Dated: May 23, 2012.
Theodore P. Kill,
Attorney-Adviser, Office of Claims and Investment Disputes, Office of the Legal Adviser, Executive Director, Advisory Committee on International Law, Department of State.

[FR Doc. 2012-13218 Filed 5-30-12; 8:45 am]

BILLING CODE 4710-08-P